DEPARTMENT OF LABOR

Office of the Secretary

Submission for OMB Review; Comment Request

July 26, 2001.

The Department of Labor (DOL) has submitted the following public information collection requests (ICRs) to the Office of Management and Budget (OMB) for review and approval in accordance with the Paperwork Reduction Act of 1995 (Pub. L. 104-13, 44 U.S.C. chapter 35). A copy of this ICR, with applicable supporting documentation, may be obtained by calling the Department of Labor. To obtain documentation contact Darrin King at (202) 693-4129 or E-Mail King-Darrin@dol.gov.

Comments should be sent to Office of Information and Regulatory Affairs, Attn: OMB Desk Officer for ESA, Office of Management and Budget, Room 10235, Washington, DC 20503 ((202) 395-7316), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submission of responses.

Type of Review: Revision of a currently approved collection.

Agency: Employment Standards Administration (ESA).

Title: Operator Controversion, Operator Response, Operator Response to Schedule for Submission of Additional Evidence, and Operator Response to Notice of Claim.

OMB Number: 1215-0058.

Affected Public: Business or other for-profit and State, Local, or Tribal Government.

Frequency: On occasion.

Annual Respondents: 5,400.

Form | Annual responses | Average response time (hours) | Burden hours
CM-970, CM-970a, and CM-2970a | 5,800 | .25 | 1,450
CM-2970 | 5,000 | .16 | 833
Total | 10,800 |  | 2,283

Total Annualized Capital/Startup Costs: $0.

Total Annual Costs (operating/maintaining systems or purchasing services): $3,996.

Description: The CM-970 and CM-970a are used by most coal mine operators to controvert an initial finding or potential liability for payment of Black Lung benefits under the Black Lung Benefits Act. The CM-2970a is used by most coal mine operators to indicate that additional evidence will be presented to back up their controversion. The CM-2970 is used by most coal mine operators to respond to a notice of claim.

Ira L. Mills,
Department Clearance Officer.

[FR Doc. 01-19953 Filed 8-15-01; 8:45 am]

BILLING CODE 4510-CK-M